DEPARTMENT OF HEALTH AND HUMAN SERVICES

National Institutes of Health

Center for Scientific Review; Cancellation of Meeting

Notice is hereby given of the cancellation of the Center for Scientific Review Special Emphasis Panel, June 23, 2005, 12:00 p.m. to June 23, 2005, 1:00 p.m., The Watergate, 2650 Virginia Avenue, NW., Washington, DC 20037 which was published in the Federal Register on May 18, 2005, 70 FR 28549-23552.

The meeting is cancelled due to the reassignment of the applications.

Dated: May 25, 2005.
LaVerne Y. Stringfield,
Director, Office of Federal Advisory Committee Policy.

[FR Doc. 05-11077 Filed 6-2-05; 8:45 am]

BILLING CODE 4140-01-M